DEPARTMENT OF AGRICULTURE

Animal and Plant Health Inspection Service

[Docket No. 05-018-1]

Notice of Request for Approval of an Information Collection

AGENCY: Animal and Plant Health Inspection Service, USDA.

ACTION: New information collection; comment request.

SUMMARY: In accordance with the Paperwork Reduction Act of 1995, this notice announces the Animal and Plant Health Inspection Service's intention to request approval of a new information collection activity, the National Chronic Wasting Disease 2005 Study.

DATES: We will consider all comments that we receive on or before June 20, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-018-1, Regulatory Analysis and Development, PPD, APHIS, Station 3C71, 4700 River Road Unit 118, Riverdale, MD 20737-1238. Please state that your comment refers to Docket No. 05-018-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information on the Chronic Wasting Disease 2005 Study, contact Mr. Chris Quatrano, Management and Program Analyst, Centers for Epidemiology and Animal Health, VS, APHIS, 2150 Centre Avenue, Building B MS 2E6, Fort Collins, CO 80526; (970) 494-7207. For copies of more detailed information on the information collection, contact Mrs. Celeste Sickles, APHIS' Information Collection Coordinator, at (301) 734-7477.

SUPPLEMENTARY INFORMATION: Title: National Animal Health Monitoring System; Chronic Wasting Disease 2005 Study.

OMB Number: 0579-XXXX.

Type of Request: Approval of a new information collection.

Abstract: The United States Department of Agriculture is responsible for protecting the health of our Nation's livestock and poultry populations by preventing the introduction and interstate spread of serious diseases and pests of livestock and for eradicating such diseases from the United States when feasible. In connection with this mission, the Animal and Plant Health Inspection Service (APHIS) operates the National Animal Health Monitoring System (NAHMS), which collects, on a national basis, statistically valid and scientifically sound data on the prevalence and economic importance of livestock and poultry disease risk factors.

NAHMS' national studies have evolved into a collaborative industry and government initiative to help determine the most effective means of preventing and controlling diseases of livestock. APHIS is the only agency responsible for collecting national data on livestock health. Participation in any NAHMS study is voluntary, and all data are confidential.

APHIS plans to initiate a national study titled the Chronic Wasting Disease (CWD) 2005 Study. The study will collect information from 5,600 cervid producers nationwide. The purpose of the CWD 2005 Study is to support the farmed/captive cervid industry by collecting baseline data to: (1) Describe general health and management practices; (2) describe the farmed/captive cervid industry; and (3) identify the most efficient ways to contact producers for outreach purposes. The potential benefit to the industry from the CWD 2005 Study is increased information on the impact of general health and management practices.

CWD is a fatal, neurological disease that occurs in deer and elk populations. It belongs to the family of diseases known as transmissible spongiform encephalopathies (TSEs), which includes bovine spongiform encephalopathy (BSE) in cattle, scrapie in sheep and goats, and both variant Creutzfeldt-Jacob Disease (vCJD) and Creutzfeldt-Jacob Disease in humans. Although all TSEs are similar, CWD only affects deer and elk. A herd usually presents evidence of CWD infection within 5 years of exposure through the presence of sick or dead animals.

APHIS is establishing a voluntary program for farmed/captive cervid herds that will track how long a particular herd has been closed and monitored for CWD. The CWD 2005 Study will include farms that choose to enroll in the CWD certification program. In conjunction with this effort, NAHMS plans to use this opportunity to collect data from cervid producers within the United States as producers enroll in the CWD certification program. APHIS will analyze information from this study and prepare descriptive reports and information sheets that will be disseminated to cervid producers, stakeholders, academia, and other interested parties.

We are asking the Office of Management and Budget (OMB) to approve the national CWD 2005 Study.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Cervid producers.

Estimated annual number of respondents: 5,600.

Estimated annual number of responses per respondent: 1.

Estimated annual number of responses: 5,600.

Estimated total annual burden on respondents: 5,600 hours. (Due to averaging, the total annual burden hours may not equal the product of the annual number of responses multiplied by the reporting burden per response.)

All responses to this notice will be summarized and included in the request for OMB approval. All comments will also become a matter of public record.

Done in Washington, DC, this 14th day of April 2005.
Elizabeth E. Gaston,
Acting Administrator, Animal and Plant Health Inspection Service.

[FR Doc. E5-1861 Filed 4-19-05; 8:45 am]

BILLING CODE 3410-34-P